NATIONAL AERONAUTICS AND SPACE ADMINISTRATION

[Notice (04-075)]

Notice of Prospective Patent License

AGENCY: National Aeronautics and Space Administration.

ACTION: Notice of prospective patent license.

SUMMARY: NASA hereby gives notice that Phoenix Systems International, Inc. of Pine Brook, NJ, has applied for an exclusive, worldwide license to practice the invention described and claimed in KSC-12666/PCT, entitled “Concentration of Hydrogen Peroxide,” and KSC-12664/PCT, entitled “Emission Control System.” Phoenix Systems International, Inc. further has applied for an exclusive license to practice the inventions described and claimed in both KSC-12458, entitled “UV Induced Oxidation of Nitrogen Oxide” and in KSC-12518, entitled “Hydrogen Peroxide Catalytic Decomposition.” Finally, Phoenix Systems International has applied for an exclusive, worldwide license to practice the invention described and claimed in KSC-12235-CIP/PCT, entitled “High Temperature Decomposition of Hydrogen Peroxide.” All inventions for which a license has been applied have been assigned to the United States of America as represented by the Administrator of the National Aeronautics and Space Administration. Written objections to the prospective grant of a license should be sent to Patent Counsel, Assistant Chief Counsel, NASA, Mail Code CC-A, Office of the Chief Counsel, John F. Kennedy Space Center, Kennedy Space Center, FL 32899.

DATES: Responses to this notice must be received by July 6, 2004.

FOR FURTHER INFORMATION CONTACT: Randall M. Heald, Patent Counsel/Assistant Chief Counsel, NASA, Office of the Chief Counsel, John F. Kennedy Space Center, Mail Code CC-A, Kennedy Space Center, FL 32899, telephone (321) 867-7214.

Dated: June 9, 2004.
Keith T. Sefton,
Chief of Staff, Office of the General Counsel.

[FR Doc. 04-13728 Filed 6-17-04; 8:45 am]

BILLING CODE 7510-01-P